DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Columbus Zoo and Aquarium, Powell, OH, PRT-028330

The applicant requests a permit to import biological samples from one captive-held and one captive-born female pygmy Chimpanzee (Pan paniscus) from Dr. Vet. W. De Meurichy, Royal Zoological Society of Antwerp, Antwerp, Belgium, for health status evaluation prior to subsequent import of the live specimens, for the purpose of enhancement of the survival of the species through captive propagation.

Applicant: The Brookfield Zoo, Brookfield, IL, PRT-030185

The applicant requests a permit to re-export blood and DNA samples obtained from wild and captive Leadbeater's possum, (Gymnobelideus leadbeateri), to the Centre for Resources and Environmental Studies, Australian National University, Acton, Australia, for the purpose of enhancement of the species through scientific research.

Applicant: John R. Cassidy, Northville, MI, PRT-030198

The applicant requests a permit to import the sport-hunted trophy of one male bontebok (Damaliscus pygargus dorcas) culled from a captive herd maintained under the management program of the Republic of South Africa, for the purpose of enhancement of the survival of the species.

Applicant: Frank Huschitt, Grayslake, IL, PRT-030199

The applicant requests a permit to import the sport-hunted trophy of one male bontebok (Damaliscus pygargus dorcas) culled from a captive herd maintained under the management program of the Republic of South Africa, for the purpose of enhancement of the survival of the species.

Applicant: Mark A. David, Shirley, AR, PRT-030201

The applicant requests a permit to import the sport-hunted trophy of one male bontebok (Damaliscus pygargus dorcas) culled from a captive herd maintained under the management program of the Republic of South Africa, for the purpose of enhancement of the survival of the species.

Applicant: Cincinnati Zoo & Botanical Garden, Cincinnati, OH, PRT-025093

The applicant requests a permit to purchase in interstate commerce wild and captive born Thick-billed parrots (Rhynchopsitta pachyrhycha) from Endangered Parrot Trust, Ocala, FL, for the purpose of enhancement of the survival of the species through propagation and zoological display.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: Ronald Schauer, Danville, CA, PRT-027545

The applicant requests a permit to import a polar bear (Ursus maritimus) sport-hunted polar bear trophy from the Grisefiord polar bear population, Northwest Territories, Canada for personal use.

Applicant: William A. Niederer, Anchorage, AK, PRT-030197

The applicant requests a permit to import a polar bear (Ursus maritimus) sport-hunted polar bear trophy from the Northern Beaufort sea polar bear population, Northwest Territories, Canada for personal use.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: July 13, 2000.
Kristen Nelson,
Chief, Branch of Permits, Office of Management Authority.

[FR Doc. 00-18169 Filed 7-19-00; 8:45 am]

BILLING CODE 4310-55-U